ENVIRONMENTAL PROTECTION AGENCY

[OECA-2004-0032; FRL-7889-2]

Agency Information Collection Activities; Submission for OMB Review and Approval; Comment Request; NESHAP for Leather Finishing Operations (Renewal), ICR Number 1985.03, OMB Control Number 2060-0478

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on June 30, 2005. Under OMB regulations, the Agency may continue to conduct or sponsor the collection of information while this submission is pending at OMB. This ICR describes the nature of the information collection and its estimated burden and cost.

DATES: Additional comments may be submitted on or before April 25, 2005.

ADDRESSES: Submit your comments, referencing docket ID number OECA-2004-0032, to (1) EPA online using EDOCKET (our preferred method), by e-mail to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On September 14, 2004 (69 FR 55430), EPA sought comments on this ICR pursuant to 5 CFR 1320.8(d). EPA received no comments.

EPA has established a public docket for this ICR under Docket ID No. OECA-2004-0032, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Leather Finishing Operations (Renewal).

Abstract: The National Emission Standards for Hazardous Air Pollutants (NESHAP), for Leather Finishing Operations were proposed on October 2, 2000 (65 FR 58702). These standards apply to any existing, reconstructed, or new leather finishing operations. A leather finishing operation is a single process or group of processes used to adjust and improve the physical and aesthetic characteristics of the leather surface through multistage application of a coating comprised of dyes, pigments, film-forming materials and performance modifiers dissolved or suspended in liquid carriers. A leather finishing operation is only subject to the regulation if it is a major source of hazardous air pollutant (HAP) emitting or has the potential to emit any single HAP at the rate of 10 tons (9.07 megagrams) or more per year or any combination of HAP at a rate of 25 tons (22.68 megagrams) or more per year or is collocated a major source of HAPs.

Owners and operators must submit notification reports upon the construction or reconstruction of any leather finishing operation. Any leather finishing operation that starts up after proposal but before promulgation must submit an initial notification, similar to the one submitted by existing sources. Each new or reconstructed source that starts up after promulgation must submit a series of notifications in addition to the initial notification which include: notification of intent to construct or reconstruct and notification of startup. Upon the collection of twelve months of data after the date of initial notification owners or operators of leather finishing operations must submit an annual compliance status certification report and each year thereafter. Records and reports will be required to be retained for a total of five years, two years at the site, and the remaining three years at an off-site location.

Notifications are used to inform the Agency or delegated authority when a source becomes subject to the standard. The reviewing authority may then inspect the source to check if the pollution control devices are properly installed and operated, and the standard is being met. Performance test reports are needed as these are the Agency's records of a source's initial capability to comply with the emission standards, and serve as a record of the operating conditions under which compliance was achieved. The information generated by monitoring, recordkeeping and reporting requirements described in this ICR is used by the Agency to ensure that facilities that are affected by the standard continue to operate the control equipment and achieve continuous compliance with the regulation.

All reports are sent to the delegated state or local authority. In the event that there is no such delegated authority, the reports are sent directly to the EPA Regional Office.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 33 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of leather finishing operations.

Estimated Number of Respondents: 10.

Frequency of Response: Initially, annually and on occasion.

Estimated Total Annual Hour Burden: 334 hours.

Estimated Total Annual Costs: $21,279, which includes zero O&M costs, zero Capital Expense, and $21,279 in Respondent Labor costs.

Changes in the Estimates: There is a decrease of 151 hours in the total estimated burden currently identified in the OMB Inventory of Approved ICR Burdens. This decrease in the burden from the most recently approved ICR is due to a decrease in the number of sources. Our data indicates that there are approximately ten sources subject to the rule, as compared to the active ICR that shows twelve sources. There are no new facilities expected to be constructed in the next three years. The decline in the number of sources was due to the high energy cost to operate the machinery and foreign competition. Our research also shows that since the removal/delisting of the compound ethylene glycol butyl ether (EGBE) from the list of HAPs that the Agency regulates under the Clean Air Act, a number of leather finishing facilities that use EGBE will no longer be subject to the CAAA's Maximum Achievable Control Technology (MACT) requirements, thus the number of sources would be decreased even more over the next three years.

There are no capital/startup or operation and maintenance costs, because NESHAP for Leather Finishing Operations does not require any special monitoring or recordkeeping equipment, therefore, no capital and operations and maintenance costs are associated with recordkeeping or reporting to the rule.

Dated: March 16, 2005.
Oscar Morales,
Director, Collection Strategies Division.

[FR Doc. 05-5818 Filed 3-23-05; 8:45 am]

BILLING CODE 6560-50-P